DEPARTMENT OF HEALTH AND HUMAN SERVICES

Health Resources and Services Administration

Agency Information Collection Activities: Submission to OMB for Review and Approval; Public Comment Request; Rural Health Opioid Program Grant Performance Measures, OMB No. 0906-xxxx—NEW

AGENCY: Health Resources and Services Administration (HRSA), Department of Health and Human Services.

ACTION: Notice.

SUMMARY: In compliance with the Paperwork Reduction Act of 1995, HRSA has submitted an Information Collection Request (ICR) to the Office of Management and Budget (OMB) for review and approval. HRSA published the 60-day notice on December 15, 2017, FR Doc. 2017-27013. HRSA received one comment. Comments submitted during the first public review of this ICR will be provided to OMB. OMB will accept further comments from the public during the review and approval period.

DATES: Comments on this ICR should be received no later than June 6, 2018.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Rural Health Opioid Program Grant Performance Measures

OMB No. 0906-xxxx—NEW

Abstract: The Rural Health Opioid Program aims to promote rural health care services outreach by expanding the delivery of opioid related health care services to rural communities. The program will work to reduce the morbidity and mortality related to opioid overdoses in rural communities through the development of broad community consortiums to prepare individuals with opioid-use disorder to start treatment, implement care coordination practices to organize patient care activities, and support individuals in recovery through the enhancement of behavioral counselling and peer support activities.

Need and Proposed Use of the Information: For this program, performance measures were drafted to provide data to the program and to enable HRSA to provide aggregate program data required by Congress under the Government Performance and Results Act of 1993. These measures cover the principal topic areas of interest to the Federal Office of Rural Health Policy (FORHP), including: (a) Target population demographics; (b) referrals to substance abuse treatment; (c) substance abuse treatment process and outcomes; (d) education of health care providers and community members; and (e) rates of fatal and non-fatal opioid-related overdose. All measures will speak to FORHP's progress toward meeting the goals set.

Likely Respondents: The respondents would be recipients of the Rural Health Opioid Program grant funding.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Rural Health Opioid Program Grant Performance Measures | 10 | 1 | 10 | 11 | 110
Total | 10 |  | 10 |  | 110

Amy P. McNulty,
Acting Director, Division of the Executive Secretariat.

[FR Doc. 2018-09668 Filed 5-4-18; 8:45 am]

BILLING CODE 4165-15-P